DEPARTMENT OF COMMERCE

National Oceanic and Atmospheric Administration

Proposed Information Collection; Comment Request; Pacific Islands Logbook Family of Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 30, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Walter Ikehara, 808-944-2275, or walter.ikehara@noaa.gov.

SUPPLEMENTARY INFORMATION:

I. Abstract

The National Marine Fishery Services Pacific Islands Region (PIR) manages the U.S. fisheries of the Exclusive Economic Zone (EEZ) in the western Pacific under five fishery management plans (FMPs), prepared by the Western Pacific Fishery Management Council pursuant to the Magnuson-Stevens Fishery Conservation and Management Act. The regulations implementing the FMPs are found at 50 CFR part 660.

The record keeping and reporting requirements at 50 CFR part 660 form the basis for this collection of information. PIR requests information from participants in the fisheries and interested persons. This information, upon receipt, results in an increasingly more efficient and accurate database for the management and monitoring of fisheries of the EEZ in the western Pacific.

II. Method of Collection

Paper submissions, electronic reports, and telephone calls are required from participants. Other methods of submittal include Internet and facsimile transmission of paper forms.

III. Data

OMB Number: 0648-0214.

Form Number: None.

Type of Review: Regular submission.

Affected Public: Business or other for-profit organizations; individuals or households.

Estimated Number of Respondents: 207.

Estimated Time Per Response: 5 minutes for catch and effort logbooks; 3 minutes for protected species interaction reports; 5 minutes for pre-trip and post-landing notifications; 4 hours for experimental fishing reports; 5 minutes for sales and transshipment reports; 5 minutes for report on gear left at sea; 4 hours for claim for reimbursement for lost fishing time; 1 hour for request for pelagics area closure exemption; and 1 hour for observer placement meetings.

Estimated Total Annual Burden Hours: 2,483.

Estimated Total Annual Cost to Public: $1,048.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 24, 2006.
Gwellnar Banks,
Management Analyst, Office of the Chief Information Officer.

[FR Doc. E6-4613 Filed 3-29-06; 8:45 am]

BILLING CODE 3510-22-P